NUCLEAR REGULATORY COMMISSION

[Docket Nos. 50-315 and 50-316]

Indiana Michigan Power Company; Notice of Withdrawal of Application for Amendment to Facility Operating Licenses

The U.S. Nuclear Regulatory Commission (the Commission) has granted the request of Indiana Michigan Power Company (the licensee) to withdraw its April 6, 2004, application for proposed amendment to Facility Operating License Nos. DPR-58 and DPR-74 for the Donald C. Cook Nuclear Plant, Unit No. 1 and Unit No. 2, located in Berrien County. In addition, the licensee's application requested exemptions from regulations.

The proposed amendment would have revised the Licenses. The proposed amendment and the requested exemptions from Title 10 of the Code of Federal Regulations (10 CFR), Section 50.44, 10 CFR 50.46, and 10 CFR part 50, Appendix K would have supported a transition to Framatome ANP, Incorporated as the fuel vendor.

The Commission had previously issued a Notice of Consideration of Issuance of Amendment published in the Federal Register on May 11, 2004 (69 FR 26192). However, by letter dated June 14, 2004, the licensee withdrew the proposed change.

For further details with respect to this action, see the application for amendment dated April 6, 2004, and the licensee's letter dated June 14, 2004, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR Reference staff by telephone at 1-800-397-4209, or 301-415-4737 or by e-mail to pdr@nrc.gov.

Dated at Rockville, Maryland, this 24th day of June, 2004.
For the Nuclear Regulatory Commission.
L. Raghavan,
Chief, Section 1, Project Directorate III, Division of Licensing Project Management, Office of Nuclear Reactor Regulation.

[FR Doc. 04-15322 Filed 7-6-04; 8:45 am]

BILLING CODE 7590-01-P